DEPARTMENT OF COMMERCE

International Trade Administration

[A-570-862]

Foundry Coke Products From the People's Republic of China: Final Results of the Expedited Third Sunset Review of the Antidumping Duty Order

AGENCY: Enforcement and Compliance, International Trade Administration, Department of Commerce.

SUMMARY: As a result of this sunset review, the Department of Commerce (the Department) finds that revocation of the antidumping duty order on foundry coke products (foundry coke) from the People's Republic of China (PRC) would be likely to lead to continuation or recurrence of dumping at the levels indicated in the “Final Results of Review” section of this notice.

DATES: Applicable September 1, 2017.

FOR FURTHER INFORMATION CONTACT: Courtney Canales, AD/CVD Operations, Enforcement and Compliance, International Trade Administration, U.S. Department of Commerce, 1401 Constitution Avenue NW., Washington, DC 20230; Telephone: (202) 482-4997.

SUPPLEMENTARY INFORMATION:

Background

On July 31, 2001, the Department published its final determination in the less-than-fair value investigation of foundry coke from the PRC.¹ On September 17, 2001, the Department published an amended final determination of sales at less-than-fair-value and the AD Order on foundry coke from the PRC.² On May 1, 2017, the Department published the notice of initiation of the third sunset review of the AD Order, pursuant to section 751(c) of the Tariff Act of 1930, as amended (Act).³ On May 10, 2017, the Department received a notice of intent to participate from: ABC Coke, Erie Coke, and Tonawanda Coke (collectively, the petitioners) within the deadline specified in 19 CFR 351.218(d)(1)(i).⁴ ABC Coke, Erie Coke, and Tonawanda Coke claimed interested party status under section 771(9)(C) of the Act, as producers in the United States of a domestic like product. On May 31, 2017, the Department received a complete and adequate substantive response from the the petitioners within the 30-day deadline specified in 19 CFR 351.218(d)(3)(i).⁵ The Department received no substantive responses from respondent interested parties. As a result, pursuant to section 751(c)(3)(B) of the Act and 19 CFR 351.218(e)(1)(ii)(C)(2), the Department conducted an expedited sunset review of the AD Order.

¹ See Final Determination or Sales at Less Than Fair Value: Foundry Coke Products from the People's Republic of China, 66 FR 39487 (July 31, 2001) (LTFV Investigation Final).

² See Notice of Amended Final Determination of Sales at Less Than Fair Value and Antidumping Duty Order: Foundry Coke Products from The People's Republic of China, 66 FR 48025, (September 17, 2001) (AD Order).

³ See Initiation of Five-Year (Sunset) Review, 82 FR 20314 (May 1, 2017).

⁴ See Petitioners' May 10, 2017, submission.

⁵ See Petitioners' submission “Re: Foundry Coke from China, Third Sunset Review: Substantive Response to Notice of Initiation of Sunset Review” (May 31, 2017).

Scope of the AD Order

The product covered under the antidumping duty order is coke larger than 100 mm (4 inches) in maximum diameter and at least 50 percent of which is retained on a 100 mm (4 inch) sieve, of a kind used in foundries. The foundry coke products subject to the antidumping duty order were classifiable under subheading 2704.00.00.10 (as of Jan 1, 2000) and are currently classifiable under subheading 2704.00.00.11 (as of July 1, 2000) of the Harmonized Tariff Schedule of the United States (HTSUS). Although the HTSUS subheadings are provided for convenience and Customs purposes, our written description of the scope of the order is dispositive.⁶

⁶ See Foundry Coke Products from the People's Republic of China, 77 Federal Register 34,012 (June 8, 2012).

Analysis of Comments Received

A complete discussion of all issues raised in this sunset review, including the likelihood of continuation or recurrence of dumping in the event of revocation of the AD Order and the magnitude of the margins likely to prevail if the order were revoked, is provided in the Issues and Decision Memorandum, which is hereby adopted by this notice.⁷ The appendix to this notice includes a list of the issues which the parties raised and to which the Department responded in the Issues and Decision Memorandum. The Issues and Decision Memorandum is a public document and is on file electronically via Enforcement and Compliance's Antidumping and Countervailing Duty Centralized Electronic Services System (ACCESS). ACCESS is available to registered users at http://access.trade.gov and to all parties in the Central Records Unit, room B0824 of the main Department of Commerce building. In addition, a complete version of the Issues and Decision Memorandum can be accessed on the Internet at http://enforcement.trade.gov/frn/. The signed Issues and Decision Memorandum and the electronic version of the Issues and Decision Memorandum are identical in content.

⁷ See Memorandum to Gary Taverman, Deputy Assistant Secretary for Antidumping and Countervailing Duty Operations, performing the non-exclusive functions and duties of the Assistant Secretary for Enforcement and Compliance, from James Maeder, Senior Director performing the duties of Deputy Assistant Secretary for Antidumping and Countervailing Duty Operations, “Expedited Third Sunset Review of the Antidumping Duty Order on Foundry Coke Products from the People's Republic of China: Issues and Decision Memorandum,” dated concurrently with this notice (Issues and Decision Memorandum).

Final Results of Sunset Review

Pursuant to section 751(c)(1) and 752(c)(1) and (3) of the Act, the Department determines that revocation of the AD Order would be likely to lead to continuation or recurrence of dumping, and that the magnitude of the dumping margins likely to prevail would be weighted-average dumping margins up to 214.89 percent.

Notification to Interested Parties

This notice serves as the only reminder to parties subject to administrative protective order (APO) of their responsibility concerning the return or destruction of proprietary information disclosed under APO in accordance with 19 CFR 351.305. Timely notification of the return or destruction of APO materials, or conversion to judicial protective order, is hereby requested. Failure to comply with the regulations and terms of an APO is a violation which is subject to sanction.

We are issuing and publishing these results and notice in accordance with sections 751(c), 752(c), and 777(i)(1) of the Act, 19 CFR 351.218, and 19 CFR 351.221(c)(5)(ii).

Dated: August 28, 2017.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Sunset Review

VIII. Recommendation

[FR Doc. 2017-18587 Filed 8-31-17; 8:45 am]

BILLING CODE 3510-DS-P